DEPARTMENT OF DEFENSE

Department of the Navy

Privacy Act of 1974; System of Records

AGENCY: Department of the Navy, DoD.

ACTION: Notice to amend a system for records.

SUMMARY: The Department of the Navy is amending a system of records notice in its existing inventory of records systems subject to the Privacy Act of 1974, (5 U.S.C. 552a), as amended.

DATES: This proposed action will be effective without further notice on March 24, 2004, unless comments are received which result in a contrary determination.

ADDRESSES: Send comments to Department of the Navy, PA/FOIA Policy Branch, Chief of Naval Operations, N09B10, 2000 Navy Pentagon, Washington, DC 20350-2000.

FOR FURTHER INFORMATION CONTACT: Mrs. Doris Lama at (202) 685-6545 or DSN 325-6546.

SUPPLEMENTARY INFORMATION: The Department of the Navy systems of records notices subject to the Privacy Act of 1974, (5 U.S.C. 552a), as amended, have been published in the Federal Register and are available from the address above.

The specific changes to the records system being amended are set forth below followed by the notices, as amended, published in their entirety. The proposed amendments are not within the purview of subsection (r) of the Privacy Act of 1974, (5 U.S.C. 552a), as amended, which requires the submission of a new or altered system report.

Dated: February 13, 2004.
L.M. Bynum,
Alternate OSD Federal Register Liaison Officer, Department of Defense.

N03760-1

System name:

Naval Flight Record Subsystem (NAVFLIRS) (February 8, 2000, 65 FR 6184).

Changes:

System identifier:

Replace entry with ‘NM03760 1.-1

* * * * *

Authority for maintenance of the system:

Delete entry and replace with ‘10 U.S.C. 5013, Secretary of the Navy; 10 U.S.C. 5041, Headquarters, Marine Corps; and E.O. 9397 (SSN).’

* * * * *

Record source categories:

Delete entry and replace with ‘Aircraft reporting custodian; Navy and Marine Corps pilots and enlisted aircrew members; and Individual Flight Activity Reporting System (IFARS) database.’

* * * * *

NM03760-1

System Name:

Naval Flight Record Subsystem (NAVFLIRS).

System Location:

Primary database is maintained at the Naval Air Systems Command (Code AIR 3.6.2.3), 47056 Mcleod Road, Building 447, Patuxent River, MD 20670-21626.

Secondary database is maintained at the Naval Safety Center, 375 A Street, Norfolk, VA 23511-4399. Local databases are maintained at Navy and Marine Corps aviation activities.

Categories of Individuals Covered by the System:

All aeronautically designated commissioned Navy and Marine Corps Officers and enlisted members assigned as aircrew members in the operation of an aircraft in accordance with the direction of competent authority.

Categories of Records in the System:

Reports of each flight submitted to the custodian of the aircraft. Records contain personal identification (name, rank, Social Security Number), and specific technical data related to the flight of naval aircraft.

Authority for Maintenance of the System:

10 U.S.C. 5013, Secretary of the Navy; 10 U.S.C. 5041, Headquarters, Marine Corps; and E.O. 9397 (SSN).

Purpose(s):

Naval Flight Record Subsystem consolidates the collection of naval flight data into a single, locally controlled collection and correction system, and implements a standard data collection source document (the Naval Flight Record OPNAV 3710/4) throughout the Navy and Marine Corps. It further establishes a single control database containing all naval flight data.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Automated records.

Retrievability:

Individual records are primarily retrieved by a unique document number assigned to each naval flight record. Additionally, each of the data elements such as pilots' Social Security Number, model aircraft and squadron may be used to retrieve individual records.

Safeguards:

Automated records are password protected and access limited to personnel with an official need to know.

Retention and disposal:

Primary and secondary database at the Naval Safety Center are permanent. Records in the secondary database at Headquarters, U.S. Marine Corps are erased from tape when the individual is removed from active flight status. Local databases purge all magnetic tape records after six months.

System manager(s) and address:

Commander, Naval Air Systems Command (AIR 3.6.2.3), 47056 Mcleod Road, Building 447, Patuxent River, MD 20670-1626.

Notification procedure:

Individuals seeking to determine whether information about themselves is contained in this system should address written inquiries to the Commander, Naval Air Systems Command (AIR 3.6.2.3), 47056 Mcleod Road, Building 447, Patuxent River, MD 20670-1626.

The request should contain full name, Social Security Number, squadron assigned, and address of the individual concerned and should be signed. Personal visitors will be required to produce military or comparable civilian identification cards.

Record access procedures:

Individuals seeking access to information about themselves contained in this system should address written inquiries to the Commander, Naval Air Systems Command (AIR 3.6.2.3), 47056 Mcleod Road, Building 447, Patuxent River, MD 20670-1626.

Contesting record procedures:

The Navy's rules for accessing records, and for contesting contents and appealing initial agency determinations are published in Secretary of the Navy Instruction 5211.5; 32 CFR part 701; or may be obtained from the system manager.

Record source categories:

Aircraft reporting custodian; Navy and Marine Corps pilots and enlisted aircrew members; and Individual Flight Activity Reporting System (IFARS) database.

Exemptions claimed for the system:

None.

[FR Doc. 04-3767 Filed 2-20-04; 8:45 am]

BILLING CODE 5001-06-M